DEPARTMENT OF JUSTICE

Notice of Lodging of Consent Decree Under the Comprehensive Environmental Response, Compensation, and Liability Act

Notice is hereby given that on January 19, 2010, a proposed Amended Consent Decree in United States of America v. Stauffer Management Company LLC (successor by merger to Atkemix Thirty-Seven, Inc.) Civil Action No. 8:98-cv-01203-T-27TGW was lodged with the United States District Court for the Middle District of Florida, Tampa Division (“the Court”).

This case was brought under authority of the Comprehensive Environmental Response, Compensation, and Liability Act (“CERCLA”), 42 U.S.C. 9601 et seq. and pertains to the Stauffer Chemical Superfund Site in Tampa, Hillsborough County, Florida (“the Site”). The Court entered a Consent Decree on July 23, 1998 (“1998 Decree”), under which Atkemix Thirty-Seven Inc. (“Atkemix”) agreed to perform the remedial action at the Site set forth in the Environmental Protection Agency's (“EPA's”) 1995 Record of Decision (“1995 ROD”) and pay the government's response costs. However, during the first several years of 1995 ROD implementation, it became clear that, while the groundwater remedy was cleaning up the groundwater at the Site, the remedy chosen for the soils and sediments was failing to clean the soils and sediments up to the required performance standards.

EPA issued an Amended Record of Decision for the soils and sediments (“2006 ROD”) while continuing to have Atkemix perform the groundwater cleanup under the 1995 ROD. It then became necessary to amend the 1998 Decree to include the revised soils and sediment cleanup under the 2006 ROD and to address other changes such as the name of the settling defendant. Atkemix merged into Stauffer Management Company LLC in December 2000. According to the Civil Docket, the Court had closed this case on July 24, 1998. However, on January 19, 2010, the Court entered an order granting the motion of the United States to reopen the case and reassign it. The Amended Consent Decree was filed with the Motion to Reopen and is deemed lodged as of January 19, 2010.

The Department of Justice will receive for a period of thirty (30) days from the date of this publication comments relating to the Amended Consent Decree. Comments should be addressed to the Assistant Attorney General, Environment and Natural Resources Division, and either e-mailed to pubcomment-ees.enrd@usdoj.gov or mailed to P.O. Box 7611, U.S. Department of Justice, Washington, DC 20044-7611, and should refer to United States of America v. Stauffer Management Company LLC (successor by merger to Atkemix Thirty-Seven, Inc.), D.J. Ref. 90-11-2-1227.

The Amended Consent Decree may be examined at U.S. EPA Region 4, 61 Forsyth Street, SE., Atlanta, GA 30303, ATTN: Elisa Roberts. During the public comment period, the Amended Consent Decree may also be examined on the following Department of Justice Web site, http://www.usdoj.gov/enrd/Consent_Decrees.html. A copy of the Amended Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $89.25 (25 cents per page reproduction cost) payable to the U.S. Treasury or, if by e-mail or fax, forward a check in that amount to the Consent Decree Library at the stated address. In requesting a copy exclusive of appendices, please enclose a check in the amount of $24.25 (25 cents per page reproduction cost) payable to the U.S. Treasury.

Maureen M. Katz,
Assistant Chief, Environmental, Enforcement Section, Environment and Natural Resources Division.

[FR Doc. 2010-1451 Filed 1-25-10; 8:45 am]

BILLING CODE 4410-15-P